DEPARTMENT OF COMMERCE

National Oceanic and Atmospheric Administration

50 CFR Part 648

[Docket No. 160301164-6694-02]

RIN 0648-XE955

Fisheries of the Northeastern United States; Northeast Skate Complex; Adjustment to the Skate Bait Inseason Possession Limit

AGENCY: National Marine Fisheries Service (NMFS), National Oceanic and Atmospheric Administration (NOAA), Commerce.

ACTION: Temporary rule; inseason adjustment.

SUMMARY: We announce the reduction of the commercial per-trip skate bait possession limit from 25,000 lb (11,340 kg) to 9,307 lb (4,222 kg) whole weight through October 31, 2016. This action is required to prevent the skate bait Season 2 quota from being exceeded. This announcement informs the public that the skate bait possession limit is reduced.

DATES: Effective October 17, 2016, through October 31, 2016.

FOR FURTHER INFORMATION CONTACT: William Whitmore, Fishery Policy Analyst, 978-281-9182.

SUPPLEMENTARY INFORMATION:

Background

The bait skate fishery is managed primarily through the Northeast Skate Complex Fishery Management Plan. The regulations describing the process to adjust inseason commercial possession limits of skate bait are described at 50 CFR 648.322(b) and (d). When the National Marine Fisheries Service Regional Administrator, Greater Atlantic Region projects that 90 percent of the skate bait fishery seasonal quota has been landed, the Regional Administrator is required to reduce the skate bait trip limit unless such a reduction would be expected to prevent attainment of the seasonal quota or annual TAL. The current skate bait trip limit is 25,000 lb (11,340 kg) and the current skate wing trip limit is 9,307 lb (4,222 kg) whole weight, 4,100 lb (1,860 kg) skate wings.

Inseason Action

Based on commercial landings data reported through October 1, 2016, the skate bait fishery is projected to reach or exceed 90 percent of the Season 2 quota on or around October 15, 2016. Further, catch projections indicate that retaining the current skate bait possession limits would result in 109 percent of the Season 2 quota being harvested. Additional projections indicate that the annual TAL is likely to be attained in Season 3, even with this season 2 possession limit reduction. Therefore, consistent with § 648.322(b) and (d) we are reducing the skate wing trip limit from 25,000 lb (11,340 kg) to 9,307 lb (4,222 kg) whole weight [4,100 lb (1,860 kg) skate wings] to prevent the season 2 quota from being exceeded. Beginning October 17, 2016, no person may possess on board or land more than 9,307 lb (4,222 kg) of skate bait per trip for the remainder of Season 2 (i.e., through October 31, 2016). The 25,000 lb (11,340 kg) skate bait trip limit is reinstated on November 1, 2016, the start of Season 3.

Classification

This action is taken under 50 CFR part 648 and is exempt from review under Executive Order 12866.

Authority: 16 U.S.C. 1801 et seq.

Dated: October 13, 2016.
Emily H. Menashes,
Acting Director, Office of Sustainable Fisheries, National Marine Fisheries Service.

[FR Doc. 2016-25139 Filed 10-13-16; 4:15 pm]

BILLING CODE 3510-22-P